DEPARTMENT OF AGRICULTURE

Natural Resources Conservation Service

South Fork Licking River Watershed Licking, Perry, and Fairfield Counties, OH

AGENCY: Natural Resources Conservation Service, Agriculture.

ACTION: Notice of Intent to Prepare an Environmental Impact Statement.

SUMMARY: Pursuant to Section 102(2)(C) of the National Environmental Policy Act of 1969; the Council on Environmental Quality Guidelines (40 CFR part 1500); and the Natural Resources Conservation Service Guidelines (7 CFR part 650); The Natural Resources Conservation Service, U.S. Department of Agriculture, gives notice that an environmental impact statement is being prepared for South Fork of Licking River Watershed, Licking, Perry, Fairfield Counties, Ohio.

FOR FURTHER INFORMATION CONTACT: Terry Cosby, State Conservationist, Natural Resources Conservation Service; 200 North High Street; Room 522; Columbus, Ohio 43215-2478, telephone 614-259-2500.

SUPPLEMENTARY INFORMATION: The environmental reassessment of this previously approved federally assisted action indicates that the project might cause significant local, regional, or national impact on the environment. As a result of these findings, Terry Cosby, State Conservationist, has determined that the preparation and review of a supplemental environmental impact statement is needed for this project.

The project concerns are watershed protection and flood prevention. Alternatives under consideration are channel modification, installation of a by-pass channel, obstruction removal, the creation of a temporary flood water impoundment, and the installation of a dry dam.

A supplemental draft environmental impact statement will be prepared and circulated for review by agencies and the public. The Natural Resources Conservation Service invites participation and consultation of agencies and individuals that have special expertise, legal jurisdiction, or interest in the preparation of the draft environmental impact statement.

Meetings will be held Thursday, December 15, 2005, from 2 to 4 p.m. and 7 to 9 p.m. at the Hebron Municipal Building, Hebron, Ohio, to determine the scope and evaluation of the proposed action. Further information on the proposed action or scoping meeting may be obtained from Terry Cosby, State Conservationist, at the above address or telephone 614-259-2500.

Dated: November 16, 2005.
Terry J. Cosby,
State Conservationist.

(This activity is listed in the Catalog of Federal Domestic Assistance under No. 10.904—Watershed Protection and Flood Prevention—and is subject to the provisions of Executive Order 12372, which requires inter-governmental consultation with State and local officials).

[FR Doc. 05-23168 Filed 11-21-05; 8:45 am]

BILLING CODE 3410-16-P